DEPARTMENT OF STATE

[Public Notice: 11374]

Determinations Regarding Use of Chemical Weapons by Russia Under the Chemical and Biological Weapons Control and Warfare Elimination Act of 1991

AGENCY: Bureau of International Security and Nonproliferation, Department of State.

ACTION: Notice of sanctions.

SUMMARY: The Secretary of State, acting under authority delegated pursuant to Executive Order 12851, has determined pursuant to the Chemical and Biological Weapons Control and Warfare Elimination Act of 1991, that the Government of the Russian Federation has used chemical or biological weapons in violation of international law or lethal chemical or biological weapons against its own nationals. In addition, the Secretary of State has determined and certified to Congress that it is essential to the national security interests of the United States to partially waive the application of the sanctions required under the Act with respect to foreign assistance, licenses for the export of items on the U.S. Munitions List (USML), and the licensing of national security-sensitive goods and technology. This document is a notice of the sanctions to be imposed pursuant to the Act, subject to these waivers.

DATES: These sanctions are effective on March 18, 2021.

FOR FURTHER INFORMATION CONTACT: Pamela K. Durham, Office of Missile, Biological, and Chemical Nonproliferation, Bureau of International Security and Nonproliferation, Department of State, Telephone (202) 647-4930.

SUPPLEMENTARY INFORMATION: Pursuant to sections 306(a), 307(a), and 307(d) of the Chemical and Biological Weapons Control and Warfare Elimination Act of 1991 (22 U.S.C. 5604(a), 5605(a), and 5605(d)), on March 1, 2021 the Secretary of State determined that the Government of the Russian Federation has used chemical or biological weapons in violation of international law or lethal chemical or biological weapons against its own nationals. As a result, the following sanctions are hereby imposed:

1. Foreign Assistance: Termination of assistance to Russia under the Foreign Assistance Act of 1961, except for urgent humanitarian assistance and food or other agricultural commodities or products.

The Secretary of State has determined that it is essential to the national security interests of the United States to waive the application of this restriction.

2. Arms Sales: Termination of (a) sales to Russia under the Arms Export Control Act of any defense articles, defense services, or design and construction services, and (b) licenses for the export to Russia of any item on the United States Munitions List.

The Secretary of State has determined that it is essential to the national security interests of the United States to waive the application of this sanction with respect to the issuance of licenses in support of government space cooperation, provided that such licenses shall be issued on a case-by-case basis and consistent with export licensing policy for Russia prior to the date of the determination.

The Secretary of State has further determined that it is essential to the national security interests of the United States to waive the application of this sanction with respect to the issuance of licenses in support of commercial space launches, provided that prior to September 1 2021, such licenses shall be issued on a case-by-case basis and consistent with export licensing policy for Russia prior to the date of the determination, and provided further that after September 1, 2021, such licenses shall be reviewed on a case-by-case basis, and subject to a policy of denial.

3. Arms Sales Financing: Termination of all foreign military financing for Russia under the Arms Export Control Act.

4. Denial of United States Government Credit or Other Financial Assistance: Denial to Russia of any credit, credit guarantees, or other financial assistance by any department, agency, or instrumentality of the United States Government, including the Export-Import Bank of the United States.

5. Exports of National Security-Sensitive Goods and Technology: Prohibition on the export to Russia of any goods or technology on that part of the control list established under 50 U.S.C. 4813(a)(1).

The Secretary of State has determined that it is essential to the national security interests of the United States to waive the application of this sanction with respect to the following:

License Exceptions: Exports and reexports of goods or technology eligible under License Exceptions GOV, ENC, BAG, TMP, and AVS.

Safety of Flight: Exports and reexports of goods or technology pursuant to new licenses necessary for the safety of flight of civil fixed-wing passenger aviation, provided that such licenses shall be issued on a case-by-case basis, consistent with export licensing policy for Russia prior to the date of the determination.

Deemed Exports/Reexports: Exports and re-exports of goods or technology pursuant to new licenses for deemed exports and reexports to Russian nationals, provided that such licenses shall be issued on a case-by-case basis, consistent with export licensing policy for Russia prior to the date of the determination.

Wholly-Owned U.S. and Other Foreign Subsidiaries: Exports and reexports of goods or technology pursuant to new licenses for exports and reexports to wholly-owned U.S. and other foreign subsidiaries in Russia, provided that such licenses shall be issued on a case-by-case basis, consistent with export licensing policy for Russia prior to the date of the determination.

Government Space Cooperation: Exports and reexports of goods or technology pursuant to new licenses in support of government space cooperation, provided that such licenses shall be issued on a case-by-case basis, consistent with export licensing policy for Russia prior to the date of the determination.

Commercial Space Launches: Exports and reexports of goods or technology pursuant to new licenses in support of commercial space launches, provided that prior to September 1, 2021, such licenses shall be issued on a case-by-case basis, consistent with export licensing policy for Russia prior to the date of the determination, and provided further that after September 1, 2021, such licenses in support of commercial space launches will be reviewed subject to a “presumption of denial” policy.

Commercial End-Users: Exports and reexports of goods or technology pursuant to new licenses for commercial end-users civil end-uses in Russia, provided that such licenses will be reviewed subject to a “presumption of denial” policy.

SOEs/SFEs: Exports and reexports of goods or technology pursuant to new licenses for Russian state-owned or state-funded enterprises will be reviewed subject to a “presumption of denial” policy.

These measures shall be implemented by the responsible departments and agencies of the United States Government and will remain in place for at least one year and until further notice.

Zachary A. Parker,
Director, Office of Directives Management, Department of State.

[FR Doc. 2021-05527 Filed 3-17-21; 8:45 am]

BILLING CODE 4710-05-P